DEPARTMENT OF THE INTERIOR

Bureau of Land Management

[COF000-LLCOF00000-L19900000-XZ0000]

Notice of Meeting, Front Range Resource Advisory Council

AGENCY: Bureau of Land Management, Interior.

ACTION: Notice of Public Meeting.

SUMMARY: In accordance with the Federal Land Policy and Management Act (FLPMA) and the Federal Advisory Committee Act of 1972 (FACA), the U.S. Department of the Interior, Bureau of Land Management (BLM) Front Range Resource Advisory Council (RAC) will meet as indicated below.

DATES: The meeting will be held on January 18, 2012, from 9 a.m. to 4:15 p.m.

ADDRESSES: BLM Royal Gorge Field Office, 3028 East Main Street, Cañon City, CO.

FOR FURTHER INFORMATION CONTACT: Denise Adamic, Front Range RAC Coordinator (see address above). Phone: (719) 269-8553. Email: dadamic@blm.gov.

SUPPLEMENTARY INFORMATION: The 15-member Council advises the Secretary of the Interior, through the BLM, on a variety of planning and management issues associated with public land management in the BLM Front Range District, which includes the Royal Gorge Field Office (RGFO) and the San Luis Valley Field Office, (SLVFO), Colorado. Planned topics of discussion and agenda items include: introducing new RAC members and discussing fee proposals at Zapata Falls Campground, Penitente Canyon Campground and Shelf Road Recreation Area Campgrounds.

The meeting at the RGFO is open to the public. The public is encouraged to make oral comments to the Council at 2:30 p.m. or written statements may be submitted for the Council's consideration. Summary minutes for the RAC meetings will be maintained in the Royal Gorge Field Office and will be available for public inspection and reproduction during regular business hours within thirty (30) days following the meeting. Previous meeting minutes, the fee proposals and an agenda are available at: http://www.blm.gov/co/st/en/BLM_Resources/racs/frrac/co_rac_minutes_front.html.

Dated: December 6, 2011.
Helen M. Hankins,
State Director.

[FR Doc. 2011-31889 Filed 12-12-11; 8:45 am]

BILLING CODE 4310-JB-P